FEDERAL COMMUNICATIONS COMMISSION

47 CFR Part 73

[DA 03-345; MB Docket No. 02-300, RM-10576; MB Docket No. 02-296, RM-10571; MB Docket No. 02-298, RM-10574; MB Docket No. 02-299, RM-10575; MB Docket No. 02-297, RM-10572; MB Docket No. 02-302, RM-10579]

Radio Broadcasting Services; Colorado City, O'Brien, Panhandle, Shamrock, Stamford, TX, and Taloga, OK

AGENCY: Federal Communications Commission.

ACTION: Final rule.

SUMMARY: In this document, the Commission allots channels in six separate docketed proceedings which were proposed together in a multiple docket Notice of Proposed Rule Making. See At the request of Linda Crawford, Channel 257A is allotted at Colorado City, Texas, as the community's third local aural transmission service at a site 10.1 kilometers (6.3 miles) northwest of the community at coordinates 32-26-23 NL and 100-57-29 WL. At the request of Katherine Pyeatt, Channel 261A at O'Brien, Texas is allotted as the first local aural transmission service at a site 3.7 kilometers (2.3 miles) north of the community at coordinates 33-24-47 NL and 99-51-02 WL. At the request of Linda Crawford, Channel 291C3 is allotted at Panhandle, Texas, as the community's first local aural transmission service at a site 18.0 kilometers (11.2 miles) east of the community at coordinates 35-20-38 NL and 101-10-54 WL. At the request of Maurice Salsa, Channel 271A is allotted at Shamrock, Texas as the second local aural transmission service at a site 2.4 kilometers (1.5 miles) west of the community at coordinates 35-12-22 NL and 100-16-23 WL. At the request of Katherine Pyeatt, Channel 295C2 is allotted at Stamford, Texas, as the third local aural transmission service at a site 7.8 kilometers (4.9 miles) north of the community at coordinates 33-00-57 NL and 99-47-46 WL. At the request of Robert Fabian, Channel 226A is allotted at Taloga, Oklahoma, as the community's first local aural transmission service at a site 7.8 kilometers (4.8 miles) south of the community at coordinates 35-57-57 NL and 98-59-11 WL.

DATES: Effective April 4, 2003.

FOR FURTHER INFORMATION CONTACT: Victoria M. McCauley, Mass Media Bureau, (202) 418-2180.

SUPPLEMENTARY INFORMATION: This is a synopsis of the Commission's Notice of Report and Order, MB Docket Nos. 02-296, 02-297, 02-298, 02-299, 02-300, 02-301, 02-302, adopted February 12, 2003, and released February 18, 2003. The full text of this document is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, and 336.

§ 73.202 [Amended]

2. Section 73.202(b), the Table of FM Allotments under Texas, is amended by adding Channel 257A at Colorado City, O'Brien, Channel 261A, Panhandle, Channel 291C3, Channel 271A at Shamrock, and Channel 233A at Stamford.

3. Section 73.202(b), the Table of FM Allotments under Oklahoma, is amended by adding Taloga, Channel 226A.

Federal Communications Commission.
John A. Karousos,
Assistant Chief, Audio Division, Media Bureau.

[FR Doc. 03-5338 Filed 3-5-03; 8:45 am]

BILLING CODE 6712-01-P